SECURITIES AND EXCHANGE COMMISSION

[Release No. 34-57181; File No. SR-Amex-2007-132]

Self-Regulatory Organizations; American Stock Exchange LLC; Order Approving a Proposed Rule Change as Modified by Amendment No. 1 Thereto To Include Volume Executed by Remote Quoting Towards the Earning of Remote Quoting Rights

January 22, 2008.

On November 30, 2007, the American Stock Exchange LLC (“Amex” or “Exchange”) filed with the Securities and Exchange Commission (“Commission”), pursuant to Section 19(b)(1) of the Securities Exchange Act of 1934 (“Act”) ¹ and Rule 19b-4 thereunder,² a proposed rule change to amend Amex Rule 994-ANTE to include the volume executed remotely by specialists and registered options traders (“ROTs) towards the earning of remote quoting rights in the Exchange's remote registered options trader (“RROT”) program (“RROT Program”). On December 13, 2007, Amex filed Amendment No. 1 to the proposed rule change. The proposed rule change, as amended, was published for comment in the Federal Register on December 21, 2007.³ The Commission received no comments on the proposal. This order approves the proposed rule change, as amended.

¹ 15 U.S.C. 78s(b)(1).

² 17 CFR 240.19b-4.

³ See Securities Exchange Act Release No. 56974 (December 17, 2007), 72 FR 72803.

The Exchange's RROT Program currently allows members or member organizations designated by the Exchange to be awarded remote quoting rights to enter bids and offers electronically from locations other than the trading crowd where the applicable options class is traded on the Exchange's physical trading floor.⁴ ROTs and specialists are currently awarded remote quoting rights based on quantitative criteria set forth in Amex Rule 994-ANTE. Specifically, specialists are awarded remote quoting rights based on Exchange floor volume executed, and their percentage of industry market share in the options in which they specialize. ROTs are awarded remote quoting rights based solely on floor volume executed.

⁴ See Securities Exchange Act Release No. 53652 (April 13, 2006), 71 FR 20422 (April 20, 2006) (approving the Exchange's RROT Program).

Currently, volume executed as a result of quoting remotely is not included in the calculation of remote quoting rights in Rule 994-ANTE. However, according to the Exchange, since the implementation of the RROT Program in May of 2006, volume is increasingly executed as a result of remote quotes entered by ROTs and specialists. The Exchange believes it is appropriate to reward those ROTs and specialists for the volume they execute as a result of quoting remotely, by including such volume towards the earning of additional remote quoting rights.

The Commission finds that the proposed rule change, as amended, is consistent with the requirements of the Act and the rules and regulations thereunder applicable to a national securities exchange.⁵ In particular, the Commission finds that the proposal is consistent with Section 6(b)(5) of the Act,⁶ which requires, among other things, that the rules of an exchange be designed to promote just and equitable principles of trade, remove impediments to and perfect the mechanism of a free and open market and a national market system, and, in general, protect investors and the public interest. Volume executed as a result of quoting remotely, as well as volume executed on the floor, contributes to liquidity in a class. The Commission therefore believes that it is appropriate and consistent with the Act for the Exchange to include volume executed remotely by specialists and ROTs in the calculation of remote quoting rights on the Exchange.

⁵ In approving this proposed rule change, the Commission notes that it has considered the proposed rule's impact on efficiency, competition, and capital formation. 15 U.S.C. 78c(f).

⁶ 15 U.S.C. 78f(b)(5).

It is therefore ordered, pursuant to Section 19(b)(2) of the Act,⁷ that the proposed rule change (SR-Amex-2007-132), as modified by Amendment No. 1 thereto, is approved.

⁷ 15 U.S.C. 78s(b)(2).

⁸ 17 CFR 200.30-3(a)(12).

For the Commission, by the Division of Trading and Markets, pursuant to delegated authority.⁸
Florence E. Harmon,
Deputy Secretary.

[FR Doc. E8-1788 Filed 1-31-08; 8:45 am]

BILLING CODE 8011-01-P